DEPARTMENT OF INTERIOR

National Park Service

Notice of Intent To Prepare a General Management Plan and Environmental Impact Statement

SUMMARY: Pursuant to section 102(2)(C) of the National Environmental Policy Act (NEPA)of 1969, the National Park Service (NPS) announces its intent to prepare a General Management Plan and Environmental Impact Statement (GMP/EIS) for the George Washington Birthplace National Monument, Westmoreland County, Virginia. The park contains 550 acres that comprise significant portions of the 17th and 18th century Washington family plantation holdings, including the site of the home where George Washington was born and spent his early years. Prepared by planners in the NPS Northeast Region, with assistance from advisors and consultants, the GMP/EIS will propose a long-term approach to managing the George Washington Birthplace National Monument.

FOR FURTHER INFORMATION CONTACT: Superintendent, George Washington Birthplace National Monument, (804) 224-1732

SUPPLEMENTARY INFORMATION: Consistent with the site's mission, NPS policy, and other laws and regulations, alternatives will be developed to guide the management of the site over the next 15 to 20 years. The alternatives will incorporate various zoning and management prescription to ensure resource preservation and public enjoyment of the site. The environmental consequences that could result from implementing the various alternatives will be evaluated in the plan. Impact topics will include cultural and natural resources, visitor experience, park operations, the socioeconomic environment, impairment, and sustainability. The public will be invited to express opinions about the management of the site early in the process through public meetings and other media; and will have an opportunity to review and comment on a draft GMP/EIS. Following public review processes outlined under NEPA, the final plan will become official, authorizing implementation of a preferred alternative. The target date for the Record of Decision is December 2007.

Dated: November 22, 2004.
Vidal Martinez,
Superintendent, George Washington Birthplace National Monument.

[FR Doc. 04-27606 Filed 12-17-04; 8:45 am]

BILLING CODE 4312-52-M